NATIONAL FOUNDATION ON THE ARTS AND THE HUMANITIES

National Endowment for the Arts; Arts Advisory Panel

Pursuant to Section 10(a)(2) of the Federal Advisory Committee Act (Public Law 92-463), as amended, notice is hereby given that seven meetings of the Arts Advisory Panel to the National Council on the Arts will be held at the Nancy Hanks Center, 1100 Pennsylvania Avenue, NW., Washington, DC, 20506 as follows:

Theater & Musical Theater (Access to Artistic Excellence, Panel 1A): June 27-July 1, 2005, Room 730. A portion of this meeting, from 3 p.m. to 4:30 p.m. on Thursday, June 30th, will be open to the public for policy discussion. The remainder of the meeting, from 9:30 a.m. to 6 p.m. on June 27th, 28th, and 29th, from 9:30 a.m. to 3 p.m. and 4:30 p.m. to 6 p.m. on June 30th, and from 10 a.m. to 3:30 p.m. on July 1st, will be closed.

Theater & Musical Theater (Access to Artistic Excellence, Panel 1B): July 1, 2005, Room 730. This meeting, from 3:30 p.m. to 4 p.m., will be closed.

Presenting (Access to Artistic Excellence, Panel 1A): July 18, 2005, Room 716. A portion of this meeting, from 4 p.m. to 4:30 p.m., will be open to the public for policy discussion. The remainder of the meeting, from 9 a.m. to 4 p.m. and 4:30 p.m. to 5 p.m., will be closed.

Presenting (Access to Artistic Excellence, Panel 1B): July 19-22, 2005, Room 716. A portion of this meeting, from 11 a.m. to 12 p.m. on Friday, July 22nd, will be open to the public for policy discussion. The remainder of the meeting, from 9 a.m. to 5:30 p.m. on July 19th, 20th, and 21st, and from 9 a.m. to 11 a.m. and 12 p.m. to 2 p.m. on July 22nd, will be closed.

Dance (Access to Artistic Excellence): July 25-29, 2005, Room 716. This meeting, from 9 a.m. to 6 p.m. on July 25th, 26th, 27th, and 28th, and from 9 a.m. to 3:30 p.m. on July 29th, will be closed.

Museums (Access to Artistic Excellence): August 2-5, 2005, Room 716. This meeting, from 9 a.m. to 5:30 p.m. on August 2nd, 3rd, and 4th, and from 9 a.m. to 3:30 p.m. on August 5th, will be closed.

Design (Access to Artistic Excellence): August 9-10, 2005, Room 730. A portion of this meeting, from 9:30 a.m. to 10:30 p.m. on Wednesday, August 10th, will be open to the public for policy discussion. The remainder of the meeting, from 9 a.m. to 5 p.m. on August 9th, and from 10:30 a.m. to 3 p.m. on August 10th, will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman.

If you need special accommodations due to a disability, please contact the Office of AccessAbility, National Endowment for the Arts, 1100 Pennsylvania Avenue, NW., Washington, DC 20506, 202/682-5532, TDY-TDD 202/682-5496, at least seven (7) days prior to the meeting.

Further information with reference to this meeting can be obtained from Ms. Kathy Plowitz-Worden, Office of Guidelines & Panel Operations, National Endowment for the Arts, Washington, DC, 20506, or call 202/682-5691.

Dated: June 2, 2005.
Kathy Plowitz-Worden,
Panel Coordinator, Panel Operations, National Endowment for the Arts.

[FR Doc. 05-11337 Filed 6-7-05; 8:45 am]

BILLING CODE 7537-01-P